DEPARTMENT OF COMMERCE

National Oceanic and Atmospheric Administration

RIN 0648-XE381

Pacific Fishery Management Council; Public Meeting

AGENCY: National Marine Fisheries Service (NMFS), National Oceanic and Atmospheric Administration (NOAA), Commerce.

ACTION: Notice of public meeting (webinar).

SUMMARY: The Pacific Fishery Management Council (Pacific Council) will convene a joint webinar meeting of its Ad Hoc Trawl Groundfish Electronic Monitoring Policy Advisory Committee (GEMPAC) and Groundfish Electronic Monitoring Technical Advisory Committee (GEMTAC), which is open to the public.

DATES: The webinar meeting will be held January 20 and March 2, 2016, from 8:30 a.m. until the earlier of 5 p.m. (Pacific Daylight Time) or when business for each day has been completed.

ADDRESSES: To attend the webinar, visit: http://www.gotomeeting.com/online/webinar/join-webinar. Enter the Webinar ID, which is 125-796-547, and your name and email address (required). Participants are encouraged to use their telephone, as this is the best practice to avoid technical issues and excessive feedback (see the PFMC GoToMeeting Audio Diagram at http://www.pcouncil.org/wp-content/uploads/PFMC_Audio_Diagram_GoToMeeting.pdf for best practices). Please use your telephone for the audio portion of the meeting by dialing this TOLL number 1+ (213) 929-4212 (not a toll-free number); then enter the Attendee phone audio access code: 998-723-935; then enter your audio phone pin (shown after joining the webinar). System Requirements for PC-based attendees: Required: Windows® 7, Vista, or XP; for Mac®-based attendees: Required: Mac OS® X 10.5 or newer; and for mobile attendees: iPhone®, iPad®, Android™ phone or Android tablet (See the GoToMeeting Webinar Apps).

You may send an email to kris.kleinschmidt@noaa.gov or contact him at (503) 820-2280, extension 425 for technical assistance. A public listening station will be available at the Pacific Council office.

Council address: Pacific Fishery Management Council, 7700 NE Ambassador Place, Suite 101, Portland, OR 97220.

FOR FURTHER INFORMATION CONTACT: Mr. Brett Wiedoff, Staff Officer, Pacific Council; telephone: (503) 820-2280.

SUPPLEMENTARY INFORMATION: The primary purpose of the meeting is to discuss draft regulations that would implement the Pacific Council's electronic monitoring policies for the limited entry groundfish midwater trawl whiting fishery, and the limited entry fixed gear fishery fishing under the non-trawl shorebased individual fishing quota program.

Action will be restricted to those issues specifically listed in this notice and any issues arising after publication of this notice that require emergency action under Section 305(c) of the Magnuson-Stevens Fishery Conservation and Management Act, provided the public has been notified of the GEMPAC's and GEMTAC's intent to take final action to address the emergency.

Special Accommodations

The public listening station is physically accessible to people with disabilities. Requests for sign language interpretation or other auxiliary aids should be directed to Mr. Kris Kleinschmidt (503) 820-2280 at least 5 days prior to the meeting date.

Dated: December 29, 2015.
Jeffrey N. Lonergan,
Acting Deputy Director, Office of Sustainable Fisheries, National Marine Fisheries Service.

[FR Doc. 2015-33046 Filed 12-31-15; 8:45 am]

BILLING CODE 3510-22-P